DEPARTMENT OF LABOR

Office of the Secretary

Agency Information Collection Activities; Submission for OMB Review; Comment Request; Statement of Recovery Forms

ACTION: Notice.

SUMMARY: The Department of Labor (DOL) is submitting the Office of RUN FRFM Workers' Compensation Programs (OWCP) sponsored information collection request (ICR) revision titled, “Statement of Recovery Forms,” to the Office of Management and Budget (OMB) for review and approval for use in accordance with the Paperwork Reduction Act (PRA) of 1995 (44 U.S.C. 3501 et seq.).

DATES: Submit comments on or before June 11, 2012.

ADDRESSES: A copy of this ICR with applicable supporting documentation; including a description of the likely respondents, proposed frequency of response, and estimated total burden may be obtained from the RegInfo.gov Web site, http://www.reginfo.gov/public/do/PRAMain, on the day following publication of this notice or by contacting Michel Smyth by telephone at 202-693-4129 (this is not a toll-free number) or sending an email to DOL_PRA_PUBLIC@dol.gov.

Submit comments about this request to the Office of Information and Regulatory Affairs, Attn: OMB Desk Officer for DOL-OWCP, Office of Management and Budget, Room 10235, Washington, DC 20503, Telephone: 202-395-6929/Fax: 202-395-6881 (these are not toll-free numbers), email: OIRA_submission@omb.eop.gov.

FOR FURTHER INFORMATION CONTACT: Contact Michel Smyth by telephone at 202-693-4129 (this is not a toll-free number) or by email at DOL_PRA_PUBLIC@dol.gov.

SUPPLEMENTARY INFORMATION: The statement of recovery forms (Forms CA-1108 and CA-1122) are used to obtain information about amounts received as the result of final judgments in litigation, or a settlement of the litigation, brought against a third party who is liable for damages due to a Federal employee comprehensive work-related injury. A Federal employee can sustain a work-related injury, for which he or she is eligible for compensation under the Federal Employees' Compensation Act (FECA), under circumstances that create a legal liability for some third party to pay damages for the same injury. When this occurs, the FECA authorizes the Secretary of Labor either to require the employee to assign his or her right of action to the United States or to prosecute the action. See 5 U.S.C. 8131. When the employee receives a judgment or a settlement of the action, he or she must reimburse the United States for past compensation payments and if there is a surplus future compensation payments as the FECA provides that the employee must refund to the United States the amount of compensation paid by the United States and credit any surplus on future payments of compensation. See 5 U.S.C. 8132. The OWCP is revising this ICR by reformatting the forms. The changes are not expected to affect public burden.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid OMB Control Number. See 5 CFR 1320.5(a) and 1320.6. The DOL obtains OMB approval for this information collection under OMB Control Number 1240-0001. The current OMB approval is scheduled to expire on June 30, 2012; however, it should be noted that existing information collection requirements submitted to the OMB receive a month-to-month extension while they undergo review. Any changes will only take effect after OMB approval. For additional information, see the related notice published in the Federal Register on February 9, 2012 (77 FR 6823).

Interested parties are encouraged to send comments to the OMB, Office of Information and Regulatory Affairs at the address shown in the ADDRESSES section within 30 days of publication of this notice in the Federal Register. In order to help ensure appropriate consideration, comments should reference OMB Control Number 1240-0001. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-OWCP.

Title of Collection: Statement of Recovery Forms.

OMB Control Number: 1240-0001.

Affected Public: Individuals or Households, and Private Sector—Businesses or Other for Profits.

Total Estimated Number of Respondents: 2,832.

Total Estimated Number of Responses: 2,832.

Total Estimated Annual Burden Hours: 1,346.

Total Estimated Annual Other Costs Burden: $1,360.

Dated: May 7, 2012.
Michel Smyth,
Departmental Clearance Officer.

[FR Doc. 2012-11376 Filed 5-10-12; 8:45 a.m.]

BILLING CODE 4510-CH-P